SECURITIES AND EXCHANGE COMMISSION

[Release No. 34-83692; File No. SR-NYSEArca-2018-04]

Self-Regulatory Organizations; NYSE Arca, Inc.; Notice of Withdrawal of a Proposed Rule Change To Adopt a New NYSE Arca Rule 8.900-E and To List and Trade Shares of the Royce Pennsylvania ETF, Royce Premier ETF, and Royce Total Return ETF Under Proposed NYSE Arca Equities Rule 8.900-E

July 24, 2018.

On January 8, 2018, NYSE Arca, Inc. (“Exchange”) filed with the Securities and Exchange Commission (“Commission”), pursuant to Section 19(b)(1) of the Securities Exchange Act of 1934 (“Act”) ¹ and Rule 19b-4 thereunder,² a proposed rule change to adopt new NYSE Arca Rule 8.900-E to permit it to list and trade Managed Portfolio Shares. The Exchange also proposed to list and trade shares of Royce Pennsylvania ETF, Royce Premier ETF, and Royce Total Return ETF under proposed NYSE Arca Rule 8.900-E. The proposed rule change was published for comment in the Federal Register on January 26, 2018.³ On March 7, 2018, pursuant to Section 19(b)(2) of the Act,⁴ the Commission designated a longer period within which to approve the proposed rule change, disapprove the proposed rule change, or institute proceedings to determine whether to disapprove the proposed rule change.⁵ The Commission received five comment letters on the proposed rule change.⁶ On April 26, 2018, the Commission instituted proceedings under Section 19(b)(2)(B) of the Act ⁷ to determine whether to approve or disapprove the proposed rule change.⁸ Thereafter, the Commission received two additional comments on the proposed rule change.⁹ On July 20, 2018, the Commission designated a longer period for action on the proposed rule change.¹⁰

¹ 15 U.S.C. 78s(b)(1).

² 17 CFR 240.19b-4.

³ See Securities Exchange Act Release No. 82549 (January 19, 2018), 83 FR 3846.

⁴ 15 U.S.C. 78s(b)(2).

⁵ See Securities Exchange Act Release No. 82824, 83 FR 10934 (March 13, 2018). The Commission designated April 26, 2018, as the date by which the Commission shall approve or disapprove, or institute proceedings to determine whether to disapprove, the proposed rule change.

⁶ See letters from: (1) Terence W. Norman, Founder, Blue Tractor Group, LLC, dated February 6, 2018; (2) Simon P. Goulet, Co-Founder, Blue Tractor Group, LLC, dated February 13, 2018; (3) Todd J. Broms, Chief Executive Officer, Broms & Company LLC, dated February 16, 2018; (4) Kevin S. Haeberle, Associate Professor of Law, William & Mary Law School, dated February 16, 2018; and (5) Gary L. Gastineau, President, ETF Consultants.com, Inc., dated March 6, 2018. The comment letters are available at: https://www.sec.gov/comments/sr-nysearca-2018-04/nysearca201804.htm.

⁷ 15 U.S.C. 78s(b)(2)(B).

⁸ See Securities Exchange Act Release No. 83120, 83 FR 19371 (May 2, 2018).

⁹ See letters from: (1) Terence W. Norman, Founder, Blue Tractor Group, LLC, dated May 8, 2018 and (2) Kevin S. Haeberle, Associate Professor of Law, William & Mary Law School, dated June 6, 2018. The comment letters are available on the Commission's website at: https://www.sec.gov/comments/sr-nysearca-2018-04/nysearca201804.htm.

¹⁰ See Securities Exchange Act Release No. 83676. The Commission designated September 23, 2018, as the date by which the Commission must either approve or disapprove the proposed rule change.

On July 20, 2018, the Exchange withdrew the proposed rule change (SR-NYSEArca-2018-04).

For the Commission, by the Division of Trading and Markets, pursuant to delegated authority.¹¹
¹¹ 17 CFR 200.30-3(a)(12).
Eduardo A. Aleman,
Assistant Secretary.

[FR Doc. 2018-16169 Filed 7-27-18; 8:45 am]

BILLING CODE 8011-01-P